DEPARTMENT OF JUSTICE

Meeting of the Religious Liberty Commission

AGENCY: Office of the Associate Attorney General, United States Department of Justice (DOJ).

ACTION: Notice of Federal advisory committee meeting.

SUMMARY: The DOJ is publishing this notice to announce the first Federal advisory committee meeting of the Religious Liberty Commission (Commission).

DATES: Open to the public June 16, 2025, from 9:00 a.m. to 4:00 p.m.

ADDRESSES: The meeting will be held in the World Stage Theater, Museum of the Bible, 400 4th St. SW, Washington, DC 20024. The meeting will be recorded and broadcast at justice.gov/live.

FOR FURTHER INFORMATION CONTACT: M. Ashleigh Bondoc, Religious Liberty Commission Acting Designated Federal Official, RLC@usdoj.gov., 771-220-9743. Ms. Bondoc can also be contacted to request a reasonable accommodation to attend the meeting.

Registration Information: Registration is required for in-person attendance. In-person attendance is limited to the first 300 people who register. You may register by sending an email to RLC@usdoj.gov with your full name, organization or affiliation (if applicable), and email address. Members of the public who attend in-person will be required to present identification and go through security screening.

SUPPLEMENTARY INFORMATION: The Religious Liberty Commission is a federal advisory committee established by the President through Executive Order 14291. The Commission is composed of a chair, a vice chair, and 11 members appointed by the President, including representatives from the private sector, employers, educational institutions, religious communities and States. The Commission will advise the Domestic Policy Council and the White House Faith Office on religious liberty policies of the United States, and will produce a comprehensive report to the President on the foundations of religious liberty in America, the impact of religious liberty on American society, current threats to domestic religious liberty, strategies to preserve and enhance religious liberty protections for future generations, and programs to increase awareness of and celebrate America's peaceful religious pluralism.

Agenda: During its first meeting on June 16, 2025, the Commission will discuss the history of religious liberty in America, from the founding to the present day. The meeting will provide historical context of the founders' intent to protect religious liberty in the First Amendment, and how the Supreme Court has interpreted those rights, particularly since the mid-twentieth century. The Commission will also discuss the meaning of separation of church and state.

Public Comment: Written public comments will be provided to Commission members in advance of the meeting if received by 5 p.m. on June 15, 2025. Written comments may be sent by email to RLC@usdoj.gov or by mail to U.S. Department of Justice, Office of the Associate Attorney General 950 Pennsylvania Avenue NW, Room 5706, Washington, DC 20530.

Notice of this meeting is given under the Federal Advisory Committee Act (5 U.S.C. 1001 et seq.).

Dated: May 22, 2025.
M. Ashleigh Bondoc,
Acting Designated Federal Official, Religious Liberty Commission.

[FR Doc. 2025-09557 Filed 5-27-25; 8:45 am]

BILLING CODE 4410-21-P